DEPARTMENT OF THE INTERIOR

National Park Service

[NPS-WASO-NAGPRA-NPS0037677; PPWOCRADN0-PCU00RP14.R50000]

Notice of Inventory Completion: Birmingham Museum of Art, Birmingham, AL

AGENCY: National Park Service, Interior.

ACTION: Notice.

SUMMARY: In accordance with the Native American Graves Protection and Repatriation Act (NAGPRA), the Birmingham Museum of Art has completed an inventory of human remains and has determined that there is a cultural affiliation between the human remains and Indian Tribes or Native Hawaiian organizations in this notice.

DATES: Repatriation of the human remains in this notice may occur on or after May 8, 2024.

ADDRESSES: Dr. Graham C. Boettcher, Director & CEO, Birmingham Museum of Art, 2000 Rev. Abraham Woods, Jr. Blvd., Birmingham, AL 35203, telephone (205) 297-8048, email gboettcher@artsbma.org.

SUPPLEMENTARY INFORMATION: This notice is published as part of the National Park Service's administrative responsibilities under NAGPRA. The determinations in this notice are the sole responsibility of the Birmingham Museum of Art and additional information on the determinations in this notice, including the results of consultation, can be found in the inventory or related records. The National Park Service is not responsible for the determinations in this notice.

Abstract of Information Available

Based on the information available, human remains representing, at least, two individuals have been reasonably identified. No associated funerary objects are present. In 1969, Dr. Samuel Fischer, III of Birmingham, Alabama, donated to the Birmingham Museum of Art the skeletal remains of two individuals (partial skulls, accession numbers 1969.33.1 and 1969.33.2) believed to be Native American, which were found in Detroit, Lamar County, Alabama. In October 2018, the remains of these individuals were examined and tested by Dr. Keith Jacobi, biological anthropologist in the Dept. of Anthropology, University of Alabama, and their ancestry was confirmed to be Native American. The town of Detroit, Lamar County, Alabama was established on lands historically belonging to the Choctaw Nation, which were ceded to the United States of America in the treaty of Fort St. Stephens in 1816.

Cultural Affiliation

Based on the information available and the results of consultation, cultural affiliation is reasonably identified by the geographical location or acquisition history of the human remains described in this notice.

Determinations

The Birmingham Museum of Art has determined that:

• The human remains described in this notice represent the physical remains of two individuals of Native American ancestry.

• There is a reasonable connection between the human remains described in this notice and the Jena Band of Choctaw Indians; Mississippi Band of Choctaw Indians; and The Choctaw Nation of Oklahoma.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after May 8, 2024. If competing requests for repatriation are received, the Birmingham Museum of Art must determine the most appropriate requestor prior to repatriation. Requests for joint repatriation of the human remains are considered a single request and not competing requests. The Birmingham Museum of Art is responsible for sending a copy of this notice to the Indian Tribes and Native Hawaiian organizations identified in this notice.

Authority: Native American Graves Protection and Repatriation Act, 25 U.S.C. 3003, and the implementing regulations, 43 CFR 10.10.

Dated: March 22, 2024.
Melanie O'Brien,
Manager, National NAGPRA Program.

[FR Doc. 2024-07363 Filed 4-5-24; 8:45 am]

BILLING CODE 4312-52-P